ENVIRONMENTAL PROTECTION AGENCY

[EPA-HQ-OPPT-2009-0840; FRL-8799-5]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from September 7, 2009 to October 23, 2009, consists of the PMNs and TMEs, both pending or expired, and the notices of commencement to manufacture a new chemical that the Agency has received under TSCA section 5 during this time period.

DATES: Comments identified by the specific PMN number or TME number, must be received on or before December 14, 2009.

ADDRESSES: Submit your comments, identified by docket identification (ID) number EPA-HQ-OPPT-2009-0840, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2009-0840. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2009-0840. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from September 7, 2009 to October 23, 2009, consists of the PMNs and TMEs, both pending or expired, and the notices of commencement to manufacture a new chemical that the Agency has received under TSCA section 5 during this time period.

III. Receipt and Status Report for PMNs

This status report identifies the PMNs and TMEs, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 52 Premanufacture Notices Received From: 09/7/09 to 10/23/09
Case No. | Received Date | Projected Notice End Date | Manufacturer/Importer | Use | Chemical
P-09-0624 | 09/09/09 | 12/07/09 | CBI | (G) Open, non-dispersive (resin) | (G) Quaternized styrene polymer
P-09-0625 | 09/09/09 | 12/07/09 | CBI | (G) Open non-dispersive polyurethane resin | (G) Aromatic isocyanate prepolymer
P-09-0626 | 09/09/09 | 12/07/09 | CBI | (G) Wash water additive | (G) Modified urea polymer
P-09-0627 | 09/11/09 | 12/09/09 | CBI | (G) Additive, open, non-dispersive use | (G) Polyethylene glycol dicarylate, modified
P-09-0628 | 09/14/09 | 12/12/09 | CBI | (G) Crosslinking, coupling agent | (G) 1-substituted propane, 3-(triethoxysilyl)-, reaction products with polyethylene glycol mono-branched tridecyl) ether
P-09-0629 | 09/14/09 | 12/12/09 | Santolubes LLC | (S) This substance will be a raw material for a flame retardant product used in the plastics | (S) Bis(para-phenoxyphenyl)ether
P-09-0630 | 09/14/09 | 12/12/09 | 3M | (G) Surface treatment | (G) Silane derivative
P-09-0631 | 09/14/09 | 12/12/09 | CBI | (S) Flame retardant for molded electrical devices | (G) Bromodiohenylethane
P-09-0632 | 09/15/09 | 12/13/09 | FRX Polymers, Inc. | (G) FRX 100 is a non-halogenated polyphosphonate flame retardant polymer that addresses the need to replace the current commercial bromine-containing flame retardants that are being phased out due to environmental regulation. Flame retardants are required to meet fire safety standards in order to reduce flammability of combustible materials. | (G) Polyphosphonate
P-09-0633 | 09/15/09 | 12/13/09 | Forbo Adhesives, LLC | (G) Hot melt adhesive | (G) Isocyanate functional polyester urethane polymer
P-09-0634 | 09/16/09 | 12/14/09 | Fujifilm Hunt Chemicals USA | (S) Raw material (reactant) for production of intermediate for a photographic chemical | (S) Phenol, 4-(1,1-dimethylethyl)-2-nitro-*
P-09-0635 | 09/17/09 | 12/15/09 | Umicore Precious Metals NJ, LLC | (G) Catalyst electronics application | (S) Platinum (2+), tetraammine-, (SP-4-1)-, acetate (1:2)
P-09-0636 | 09/18/09 | 12/16/09 | Fujifilm Hunt Chemicals U.S.A., Inc. | (S) Isolation of intermediate in the production of substance P-03-840 | (S) Benzenamine, 5-(1,1-dimethylethyl)-2-[(2-ethylhexyl)thio]-, 4-methylbenzenesulfonate (1:1)
P-09-0637 | 09/21/09 | 12/19/09 | H.B. Fuller | (G) Industrial adhesive | (G) Polyester isocyanate polymer
P-09-0638 | 09/23/09 | 12/21/09 | CBI | (G) Open, non-dispersive | (G) Polymer of glycidyl and anhydride esters
P-09-0639 | 09/21/09 | 12/19/09 | CBI | (G) Dispersion additive for printing ink | (G) Alkyl substituted azo metal salt
P-09-0640 | 09/23/09 | 12/21/09 | CBI | (G) Colorant for coatings | (G) Substituted 29H, 31H-phthalocyaninato metal complex
P-09-0641 | 09/23/09 | 12/21/09 | CBI | (G) Intermediate for manufacture of colorant | (G) Substituted 29H, 31H-phthalocyaninato metal complex
P-09-0642 | 09/22/09 | 12/20/09 | CBI | (G) Chemical intermediate | (G) Acrylate
P-09-0643 | 09/22/09 | 12/20/09 | CBI | (G) Chemical intermediate | (G) Acrylate
P-09-0644 | 09/25/09 | 12/23/09 | CBI | (G) Hard surface protector; open, non-dispersive use. | (G) Substituted alkyl phosphate ester
P-09-0645 | 09/25/09 | 12/23/09 | CBI | (G) Hard surface protector; open, non-dispsersive use. | (G) Substituted alkyl phosphate ester,, ammonium salt
P-09-0646 | 09/28/09 | 12/26/09 | CBI | (G) Urethane component | (G) Aromatic dicarboxylic acid, polymer with aliphatic diols and aliphatic dicarboxylic acid
P-09-0647 | 09/28/09 | 12/26/09 | CBI | (S) Intermediate for polyurethane manufacture | (G) Fatty acids, C18-unsaturated, dimers, polymers with glycidyl alkanoate, 4-oxopentanoic acid and trimethylolpropane
P-09-0648 | 09/28/09 | 12/26/09 | CBI | (S) Binder for lacquers and coatings, mainly for wood and concrete | (G) Dimer fatty acid based polyester polyether polyurethane
P-09-0649 | 09/25/09 | 12/23/09 | CBI | (G) Lubricant additive | (G) 2,5-furandione, polymer with alkene, alkyl ester, substituted imidazoline amide
P-09-0650 | 09/28/09 | 12/26/09 | CBI | (S) Binder for wood floor lacquers | (G) Dimer fatty acid based polyester polyurethane
P-09-0651 | 09/29/09 | 12/27/09 | CBI | (G) Automated dish washing, hard surface cleaning applications | (G) Polymer of acrylamido alkyl propane sulfonic acid sodium salt and vinylic copolymer
P-09-0652 | 09/29/09 | 12/27/09 | CBI | (G) Intermediate for paint or cleaner additive for non-dispersive use | (G) Alkyl alkanol amine
P-09-0653 | 09/30/09 | 12/28/09 | CBI | (G) Intermediate | (G) Alkyl-dihydro-dialkyl-benzoxazine
P-10-0001 | 10/01/09 | 12/29/09 | Shin-ETSU Silicones of America, Inc. | (G) This material is used as reforming agent of the polycarbonate resin | (G) Modified siloxane
P-10-0002 | 10/06/09 | 01/03/10 | Fbsciences, Inc. | (S) Active ingredient for plant nutrient enhancement; active ingredient plant growth regulator | (S) Definition: Active ingredient for plant nutrient enhancement; Active ingredient plant growth regulator. Soil organic mattter, alkaline extract
P-10-0003 | 10/06/09 | 01/03/10 | CBI | (G) Intermediate in the production of a commercial product | (G) Alkyl thiol, manufacture of by-products from distant lights
P-10-0004 | 10/06/09 | 01/03/10 | CBI | (G) Intermediate in the production of a commercial product | (G) Alkyl thiol, manufacturer of by-products from distant residues
P-10-0005 | 10/07/09 | 01/04/10 | Southwest Nanotechnologies, Inc. | (S) Conductive coating using SWNT dispersion or SWNT ink; additive (SWNT powder) in resins/thermoplastics/elastomers for mechanical reinforcement; manufacture of sheet composites (buckypaper) using SWNT (no process information is available) | (S) Single-wall carbon nanotube
P-10-0006 | 10/08/09 | 01/05/10 | CBI | (S) Base resin for ultraviolet light and electron beam curable formulation | (G) Aliphatic alcohol, polymer with 1,3-diisocyanatomethylbenzene and .alpha.-hydro-.omega.-hydroxypoly (oxy-1,4-butanediyl), 2-hydroxypropyl methacrylate-blocked
P-10-0007 | 10/08/09 | 01/05/10 | CBI | (G) Manufacturing intermediate | (G) Distillates (petroleum), light thermal cracked, reaction products with phenol, carboxylated, metal salts
P-10-0008 | 10/08/09 | 01/05/10 | CBI | (G) Lubricant additive | (G) Distillates (petroleum), light thermal cracked, reaction products with phenol, carboxylated, metal salts
P-10-0009 | 10/08/09 | 01/05/10 | CBI | (S) Reactive expoxide for use in producing reinforced composites (open/non-dispersive use) | (G) Diglycidylaniline
P-10-0010 | 10/01/09 | 12/29/09 | CBI | (G) Component in inks | (G) Fatty acid, polymer with alkenyl alcohol, alkenedioic acid, rosin, vinyl monomer and phosphate, compound with alkanolamine
P-10-0011 | 10/01/09 | 12/29/09 | CBI | (G) Component in pigment dispersions | (G) Amines, fatty alkyl, alkyoxylated, compounds with acrylates, vinyl monomers polymer with alkanolamine
P-10-0012 | 10/14/09 | 01/11/10 | CBI | (G) Component in a polyurethane adhesive/sealant | (G) Polycarbonate polyurethane prepolymer
P-10-0013 | 10/14/09 | 01/11/10 | CBI | (G) Highly dispersive use | (G) Manganese sulfonate derivative
P-10-0014 | 10/09/09 | 01/06/10 | CBI | (G) Colorant raw material | (G) Quino[2,3-b]acridine-7, 14-dione, 2,9-dichloro-5, 12-dihydro[4-[[2-(sulfooxy)ethyl]substituted]phenyl]-,sodium salt (1:1)
P-10-0015 | 10/15/09 | 01/12/10 | CBI | (G) Fuel additive | (G) Anthraquinonedicarboximide, diamino-N-alkyl-
P-10-0016 | 10/19/09 | 01/16/10 | Heucotech LTD./heubach | (S) Organic corrosion inhibitor/paint additive | (S) 1,2-benzenedicarboxylic acid, zinc salt (1:1)
P-10-0017 | 10/20/09 | 01/17/10 | CBC (America) Corporation | (G) Sealant application | (S) Phenol, 4,4′-(1-methylethylidene)bis-, polymer with 2-(chloromethyl)oxirane, hydrogenated
P-10-0018 | 10/20/09 | 01/17/10 | CBI | (G) Intermediate used on site for manufacture of odor neutralizer, contained use; odor reducing agent for use in consumer and commercial products | (G) Fatty acid ethoxylate
P-10-0019 | 10/20/09 | 01/17/10 | CBI | (G) Odor reducing agent for use in consumer and commercial products | (G) Fatty acid ethoxylate
P-10-0020 | 10/21/09 | 01/18/10 | Essential Industries | (S) Raw material for industrial coating | (G) Aliphatic polyurethane dispersion
P-10-0021 | 10/21/09 | 01/18/10 | Forbo Adhesives, LLC | (G) Hot melt adhesive | (G) Isocyanate functional polyester urethane polymer

In Table II of this unit, EPA provides the following information (to the extent that such information is not claimed as CBI) on the Notices of Commencement to manufacture received:

II. 63 Notices of Commencement From: 09/7/09 to 10/23/09
Case No. | Received Date | Commencement Notice End Date | Chemical
P-00-0126 | 09/22/09 | 09/17/09 | (S) L-aspartic acid, N,N′-1,2-ethanediylbis-, compound with 2-aminoethanol
P-00-0152 | 09/22/09 | 09/17/08 | (S) L-aspartic acid, N,N′-1,2-ethanediylbis-
P-03-0265 | 10/14/09 | 09/16/04 | (G) Polymer of diethylenetriamine with polyepoxy functional polymers
P-03-0421 | 09/23/09 | 07/29/09 | (S) 9-octadecenoic acid (9Z)-, bismuth(3+) salt
P-03-0719 | 09/15/09 | 09/04/09 | (G) Isocyanate functional polyester polyether urethane polymer
P-04-0717 | 10/20/09 | 09/30/09 | (G) Tetramethylammonium halo salt
P-04-0878 | 09/28/09 | 06/13/05 | (G) Hydroxyl-terminated; aliphatic polycarbonate
P-06-0713 | 09/21/09 | 09/08/09 | (S) D-glucopyranose, 6-O-(carboxymethyl)-, oligomeric, C10-16-alkyl glycosides, sodium salts
P-07-0537 | 09/09/09 | 08/19/09 | (G) Alkanenitrile, bis(cyanoalkyl)amino
P-07-0652 | 09/23/09 | 09/11/09 | (S) Soybean oil, reaction products with diethanolamine and ethaneperoxoic acid
P-08-0152 | 10/19/09 | 09/13/09 | (G) Glycol modified pen (polyethylene naphthalate) polyester
P-08-0287 | 09/28/09 | 05/20/09 | (G) Hydrocarbylpolysilicate
P-08-0453 | 10/16/09 | 10/07/09 | (G) Cationic polyether
P-08-0530 | 10/20/09 | 09/25/09 | (G) Silicic acid ester polymer
P-08-0531 | 10/20/09 | 09/25/09 | (G) Silicic acid ester polymer
P-08-0532 | 10/20/09 | 09/25/09 | (G) Silicic acid ester polymer
P-08-0533 | 10/20/09 | 09/25/09 | (G) Silicic acid ester polymer
P-08-0534 | 10/20/09 | 09/25/09 | (G) Silicic acid ester polymer
P-08-0535 | 10/20/09 | 09/25/09 | (G) Silicic acid ester polymer
P-08-0623 | 09/30/09 | 09/28/09 | (S) 1,1-biphenyl, 3,3′,4,4′-tetramethyl
P-08-0686 | 10/08/09 | 07/24/09 | (G) Polyurethane prepolymer for coatings
P-08-0697 | 10/20/09 | 10/06/09 | (S) 2,5-furandione, telomer wth ethenylbenzene and (1-methylethyl)benzene, 2-phenylhydrazides
P-09-0001 | 09/18/09 | 09/07/09 | (G) Hexanedioic acid, polymer with oxybis (propanol) and alkylpolyol
P-09-0026 | 10/19/09 | 10/08/09 | (G) 2-(dimethylamino)ethyl methyl-2-propenoate, polymer with alkyl-substituted 2-methyl-2-propenoate and arylsubstituted methyl-2-propanoate,
P-09-0038 | 10/08/09 | 07/24/09 | (G) Reaction product of aldehyde and cyclic amine
P-09-0077 | 09/22/09 | 08/20/09 | (G) Alkylaminoalcohol
P-09-0078 | 09/22/09 | 08/24/09 | (G) Alkylaminoalcohol
P-09-0085 | 10/14/09 | 09/24/09 | (G) 1,3-propane diaminium-2-substituted,-hexaalkyl-,di halide
P-09-0145 | 09/08/09 | 08/18/09 | (S) 2-propenoic acid, 2-methyl-, 1,1′-[(3-heptyl-4-pentyl-1,2-cyclohexanediyl)bis(9,1-nonanediyliminocarbonyloxy-2,1-ethanediyl)] ester
P-09-0145 | 09/08/09 | 08/18/09 | (S) 2-propenoic acid, 2-methyl-, 2-[[[[9-[3(or 6)-heptyl-2-[9-[[(2oxiranylmethoxy)carbonyl]amino]nonyl]pentylcyclohexyl]nonyl]amino]carbonyl]oxy]ethyl ester
P-09-0145 | 09/08/09 | 08/18/09 | (S) Carbamic acid, N,N′-[(3-heptyl-4-pentyl-1,2-cyclohexanediyl)di-9,1-nonanediyl]bis-, C,C′-bis(2-oxiranylmethyl) ester
P-09-0150 | 09/09/09 | 08/28/09 | (S) Siloxanes and silicones, di-me, 3-(2-hydroxyphenyl)propyl group-terminated, polymers with bisphenol A diglycidly ether
P-09-0158 | 10/14/09 | 09/25/09 | (G) Substituted carbomoncyles, polymer with alkanediols
P-09-0176 | 09/22/09 | 09/17/09 | (G) Fluorinated copolymer
P-09-0208 | 09/15/09 | 08/21/09 | (G) Mixture on N-methylated polyalkylenepolyamine
P-09-0216 | 10/08/09 | 09/20/09 | (S) 1,3-dioxolan-2-one, 4-fluoro-
P-09-0217 | 09/17/09 | 09/09/09 | (G) Fatty acid ester
P-09-0222 | 10/02/09 | 09/18/09 | (G) Isocyanate terminated urethane polymer
P-09-0223 | 10/02/09 | 09/18/09 | (G) Isocyanate terminated urethane polymer
P-09-0225 | 10/02/09 | 09/21/09 | (G) Isocyanate terminated urethane polymer
P-09-0226 | 10/02/09 | 09/21/09 | (G) Isocyanate terminated urethane polymer
P-09-0227 | 10/02/09 | 09/22/09 | (G) Isocyanate terminated urethane polymer
P-09-0230 | 10/07/09 | 08/08/09 | (G) Rosin phenolies
P-09-0287 | 10/20/09 | 09/22/09 | (G) Acrylic acid, alkyl ester, polymer with ethylene and vinyl carboxylate
P-09-0291 | 10/07/09 | 09/21/09 | (G) Ammonium salt of fluoropropanoic acid
P-09-0338 | 09/18/09 | 08/25/09 | (G) Acrylic co-polymer
P-09-0339 | 09/30/09 | 09/08/09 | (G) Chlorinated rubber
P-09-0368 | 09/29/09 | 09/14/09 | (G) Fluorochemical acrylate
P-09-0385 | 10/05/09 | 09/30/09 | (S) Benzenepropanol, B-methyl-
P-09-0389 | 09/21/09 | 09/14/09 | (S) Phenol, 4,4′-[(1,1,3,3-tetramethyl-1,3-disiloxanediyl)di-2,1-ethanediyl]bis-, 1,1′-diacetate
P-09-0401 | 09/17/09 | 09/09/09 | (G) Hexanedioic acid, polymer with 1,2-ethanediol and 5-isocyanato-1-(isocyanatomethyl)-1,3,3-trimethylcyclohexane, vinyl functionality blocked
P-09-0411 | 10/05/09 | 09/18/09 | (S) 2-propenoic acid, 3-(5,5,6-trimethylbicyclo[2.2.1]hept-2-yl)cyclohexyl
P-09-0419 | 10/01/09 | 09/10/09 | (G) Modified styrene maleic anhydride polymer
P-09-0424 | 09/30/09 | 09/23/09 | (S) Siloxanes and silicones, di-me, bu group- and 3-[2-(3-carboxymethylene-1-oxopropoxy)ethoxy]propyl group-terminated
P-09-0425 | 09/28/09 | 09/18/09 | (S) 2-propenoic acid, 2-methyl-, polymer with 2-propenamide and 2-propenenitrile
P-09-0436 | 10/02/09 | 09/24/09 | (G) 2-propenoic acid, 2-methyl-, C12-15-branched and linear alkyl esters, telomers with alkyl 2-[[(alkylthio)thioxomethyl]thio]-2-alkanoate, aminoalkyl methacrylate and alkyl methacrylate, tert-bu 2-ethylhexanoperoxoate-initiated
P-09-0441 | 10/09/09 | 09/24/09 | (G) Blocked polyurethane prepolymer
P-09-0442 | 10/16/09 | 10/08/09 | (G) Organomodified silanic hydrogen fluid
P-09-0443 | 10/16/09 | 10/08/09 | (G) Modified silicone polyether copolymer
P-09-0452 | 10/20/09 | 10/10/09 | (S) 13-decosen-1-amine, N, N-dimethyl-(13Z)-
P-09-0494 | 10/20/09 | 10/07/09 | (G) Isocyanate polymer, amine blocked
P-09-0496 | 10/20/09 | 10/07/09 | (G) Isocyanate polymer, amine blocked

List of Subjects

Environmental protection, Chemicals, Premanufacturer notices.

Dated: November 3, 2009.
Chandler Sirmons,
Acting Director, Information Management Division, Office of Pollution Prevention and Toxics.

[FR Doc. E9-27168 Filed 11-10-09; 8:45 am]

BILLING CODE 6560-50-S